DEPARTMENT OF COMMERCE

Bureau of the Census

Request for Nominations of Members To Serve on the Census Advisory Committee on the Hispanic Population

AGENCY: Bureau of the Census, Commerce.

ACTION: Notice of request for nominations.

SUMMARY: Pursuant to the Federal Advisory Committee Act (5 United States Code (U.S.C.), Appendix 2, section 10(a)(b)), the Bureau of the Census (Census Bureau) invites and requests nominations of individuals for appointment by the Secretary of Commerce to the Census Advisory Committee on the Hispanic Population. The Census Bureau will consider nominations received in response to this Request for Nominations, as well as from other sources. The SUPPLEMENTARY INFORMATION section for this notice provides Committee and membership criteria.

DATES: Please submit nominations December 10, 2001.

ADDRESSES: Please submit nominations to: Ms. Jeri Green, Census Advisory Committees and Special Populations Liaison Office, Department of Commerce, U.S. Census Bureau, Room 3627, Federal Building 3, Washington, DC 20233, telephone (301) 457-2070. Nominations may also be submitted by fax to (301) 457-8608.

FOR FURTHER INFORMATION CONTACT: Ms. Jeri Green, Chief, Census Advisory Committees and Special Populations Liaison Office, at the above address or telephone number.

SUPPLEMENTARY INFORMATION: The Committee was established in accordance with the Federal Advisory Committee Act (Title 5, U.S.C., Appendix 2) in 1995. The following provides information about the Committee, membership, and the nomination process.

Objectives and Duties

1. The Committee provides an organized and continuing channel of communication between Hispanic communities and the Census Bureau. Committee members identify useful strategies to reduce the differential undercount for the Hispanic population and on ways data can be disseminated for maximum usefulness to the Hispanic population.

2. The Committee draws upon its experience with Census 2000 procedures, results of decennial evaluations, research studies, test censuses, and other experiences to provide advice and recommendations on Census 2010 planning, the American Community Survey, and related decennial programs.

3. The Committee functions solely as an advisory body under the Federal Advisory Committee Act.

4. The Committee reports to the Director of the Census Bureau.

Membership

1. Members are appointed by and serve at the discretion of the Secretary of Commerce.

2. Members are appointed to the nine-member committee for a period of three years. Committee members are selected in accordance with applicable Department of Commerce guidelines. The Committee aims to have a balanced representation, considering factors such as geography, gender, ethnicity, expertise, and knowledge of census procedures and activities. The Committee aims to include members from diverse backgrounds, including state, local, and tribal governments; academia; media; research and community-based organizations; and the private sector. No employee of the federal government can serve as a member of the Committee. Satisfactory meeting attendance and participation in the activities of the Advisory Committee are important criteria for Committee membership.

Miscellaneous

1. Members of the Committee serve without compensation, but receive reimbursement for Committee-related travel and lodging expenses.

2. The Committee meets at least once a year, but additional meetings may be held as deemed necessary by the Census Bureau Director or a designated federal official. All Committee meetings are open to the public in accordance with the Federal Advisory Committee Act.

Nomination Information

1. Nominations are requested as described above.

2. Nominees should have expertise and knowledge of the cultural patterns and issues and/or data needs of Hispanic communities. Such knowledge and expertise are needed to provide advice and recommendations to the Census Bureau on how best to enumerate Hispanic communities and obtain complete and accurate data on this population. Individuals or groups may submit nominations. A summary of the candidate's qualifications should be included in the nomination letter. Nominees must have the ability to participate in Advisory Committee meetings and tasks. Besides Committee meetings, active participation may include review of materials and participation in conference calls and working groups.

3. The Department of Commerce is committed to equal opportunity in the workplace and seeks diverse Committee membership.

Dated: November 2, 2001.
William G. Barron, Jr.,
Acting Director, Bureau of the Census.

[FR Doc. 01-28022 Filed 11-7-01; 8:45 am]

BILLING CODE 3510-07-P